FEDERAL HOUSING FINANCE AGENCY

[No. 2010-N-02]

Proposed Collection; Comment Request

AGENCY: Federal Housing Finance Agency.

ACTION: 60-Day notice of submission of information collection for approval from the Office of Management and Budget.

SUMMARY: In accordance with the requirements of the Paperwork Reduction Act of 1995, the Federal Housing Finance Agency (FHFA) is seeking public comments concerning the information collection known as “Capital Requirements for the Federal Home Loan Banks,” which has been assigned control number 2590-0002 by the Office of Management and Budget (OMB). FHFA intends to submit the information collection to OMB for review and approval of a three-year extension of the control number, which is due to expire on July 31, 2010.

DATES: Interested persons may submit comments on or before May 28, 2010.

ADDRESSES: Submit comments to FHFA using any one of the following methods:

• E-mail: regcomments@fhfa.gov. Please include Proposed Collection; Comment Request: “Capital Requirements for the Federal Home Loan Banks, (No. 2010-N-02)” in the subject line of the message.

• Mail/Hand Delivery: Federal Housing Finance Agency, Fourth Floor, 1700 G Street NW., Washington, DC 20552, ATTENTION: Public Comments/Proposed Collection; Comment Request: “Capital Requirements for the Federal Home Loan Banks, (No. 2010-N-02).”

• Federal eRulemaking Portal: http://www.regulations.gov. Follow the instructions for submitting comments. If you submit your comment to the Federal eRulemaking Portal, please also send it by e-mail to FHFA at regcomments@fhfa.gov to ensure timely receipt by the agency.

We will post all public comments we receive without change, including any personal information you provide, such as your name and address, on the FHFA Web site at http://www.fhfa.gov. In addition, copies of all comments received will be available for examination by the public on business days between the hours of 10 a.m. and 3 p.m., at the Federal Housing Finance Agency, Fourth Floor, 1700 G Street, NW., Washington, DC 20552. To make an appointment to inspect comments, please call the Office of General Counsel at 202-414-6924.

FOR FURTHER INFORMATION CONTACT: Jonathan F. Curtis, Financial Analyst, Division of Federal Home Loan Bank Regulation, by telephone at 202-408-2866 (not a toll free number), by e-mail at jonathan.curtisj@fhfa.gov, or by regular mail at the Federal Housing Finance Agency, 1625 Eye Street, NW., Washington, DC 20006. The telephone number for the Telecommunications Device for the Deaf is 800-877-8339.

SUPPLEMENTARY INFORMATION:

A. Need For and Use of the Information Collection

Section 6 of the Federal Home Loan Bank Act (Bank Act) establishes the capital structure for the Federal Home Loan Banks (Banks) and requires FHFA to issue regulations prescribing uniform capital standards applicable to each Bank.¹ Parts 930, 931, 932, and 933 of title 12, Code of Federal Regulations implement the statutory capital structure for the Banks. Part 930 establishes definitions applicable to risk management and the capital regulations; part 931 concerns Bank capital stock; part 932 establishes Bank capital requirements; and part 933 sets forth the requirements for Bank capital structure plans. The provisions of part 931 provide that a Bank must require its members to maintain a minimum investment in the capital stock of the Bank as a condition to becoming and remaining a member of the Bank and as a condition to transacting business with the Bank or obtaining advances from the Bank. The amount of the required minimum investment is determined in accordance with the Bank's capital plan under part 933.

¹ 12 U.S.C. 1426.

The Banks use the information collection to determine the amount of capital stock a member must purchase to maintain membership in and to obtain services from a Bank. More specifically, the provisions of §§ 931.3 and 933.2(a) authorize a Bank to offer its members several options to satisfy a membership investment in capital stock and an activity-based stock purchase requirement. The information collection is necessary to provide the Banks with the flexibility to meet the statutory and regulatory capital structure requirements while allowing Bank members to choose the option best suited to their business requirements.

The OMB number for the information collection is 2590-0002. The OMB clearance for the information collection expires on July 31, 2010. The likely respondents include Banks and Bank members.

B. Burden Estimate

FHFA estimates the total annual average number of activity-based stock purchase requirement respondents at 5,813, with 4 responses per respondent. The estimate for the average hours per response is 20 hours. The estimate for the annual hour burden for activity-based stock purchase requirement respondents is 465,040 hours (5,813 activity-based respondents × 4 responses per respondent × 20 hours per response).

FHFA estimates the total annual average number of membership investment in capital stock respondents at 8,106, with 4 responses per respondent. The estimate for the average hours per response is 10 hours. The estimate for the annual hour burden for membership investment in capital stock respondents is 324,240 hours (8,106 membership investment respondents × 4 responses per respondent × 10 hours per response).

The estimate for the total annual hour burden for all respondents is 789,280 hours.

C. Comment Request

FHFA requests written comments on the following: (1) Whether the collection of information is necessary for the proper performance of FHFA functions, including whether the information has practical utility; (2) the accuracy of FHFA's estimates of the burdens of the collection of information; (3) ways to enhance the quality, utility, and clarity of the information collected; and (4) ways to minimize the burden of the collection of information on respondents, including through the use of automated collection techniques or other forms of information technology.

Dated: March 22, 2010.
Edward J. DeMarco,
Acting Director, Federal Housing Finance Agency.

[FR Doc. 2010-6964 Filed 3-26-10; 8:45 am]

BILLING CODE P